DEPARTMENT OF THE TREASURY

Office of Foreign Assets Control

Designation of 8 Individuals and 2 Entities Pursuant to Executive Order 13224 of September 23, 2001, “Blocking Property and Prohibiting Transactions With Persons Who Commit, Threaten To Commit, or Support Terrorism”

AGENCY: Office of Foreign Assets Control, Treasury.

ACTION: Notice.

SUMMARY: The Treasury Department's Office of Foreign Assets Control (“OFAC”) is publishing the names of 8 individuals and 2 entities whose property and interests in property are blocked pursuant to Executive Order 13224 of September 23, 2001, “Blocking Property and Prohibiting Transactions With Persons Who Commit, Threaten To Commit, or Support Terrorism.”

DATES: The designations by the Director of OFAC of the 8 individuals and 2 entities in this notice, pursuant to Executive Order 13224, are effective on February 6, 2014.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001 terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Director of OFAC, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Director of OFAC, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On February 6, 2014, the Director of OFAC, in consultation with the Departments of State, Homeland Security, Justice and other relevant agencies, designated, pursuant to one or more of the criteria set forth in subsections 1(b), 1(c) or 1(d) of the Order, 8 individual(s) and 2 entit(ies) whose property and interests in property are blocked pursuant to Executive Order 13224.

The listings for these individuals and entities on OFAC's list of Specially Designated Nationals and Blocked Persons appear as follows:

Individuals

1. KOSARAYANIFARD, Pejman Mahmood (a.k.a. CASARYANIFARD, Pejman; a.k.a. KOSARAYAN FARD, Ali Pejman Mahmud; f.k.a. KOSARIAN FARD; a.k.a. KOSARIAN FARD, Pejman; a.k.a. KOSARIAN, Amir; a.k.a. KOSARYANI-FARD, Pejman), P.O. Box 52404, Dubai, United Arab Emirates; DOB 27 Feb 1973; Passport C20423657 (individual) [SDGT].

2. MALEKOUTI POUR, Hamidreza (a.k.a. MALAKOTIPOUR, Hamid Reza; a.k.a. MALAKOTIPOUR, Hamidreza; a.k.a. MALAKOUTIPOUR, Hamid Reza; a.k.a. MALAKUTIPUR, Hamid Reza; a.k.a. MALKOTIPOUR, Hamid Reza); DOB 18 Oct 1960; Passport B5660433 (Iran) (individual) [SDGT].

3. MAHMOUDI, Gholamreza (a.k.a. MAHMOUDI, Gholam Reza; a.k.a. MAHMOUDI, Ghulam Reza Khodrat; a.k.a. MAHMUDI, Qolam Reza); DOB 03 Feb 1958; nationality Iran; Passport 5659068 (individual) [SDGT].

4. MUSAVI, Sayyed Kamal (a.k.a. JAMALI, Sayyed Kamal); DOB 03 Jan 1958 (individual) [SDGT] [IFSR].

5. AFKHAMI RASHIDI, Mahmud (a.k.a. AFKHAMI RASHIDI, Mahmood; a.k.a. AFKHAMI RASHIDI, Mahmoud); DOB 31 Aug 1962; POB Mashhad, Iran; nationality Iran; Passport D9005625 issued 11 Jul 2009 expires 11 Jul 2014 (individual) [SDGT] [IFSR].

6. SADIKOV, Olimzhon Adkhamovich (a.k.a. AL-UZBEK, Jaffar; a.k.a. AL-UZBEKI, Jafar; a.k.a. MUHIDINOV, Jafar; a.k.a. MUIDINOV, Dilshod Alimovich; a.k.a. MUIDINOV, Djafar; a.k.a. MUIDINOV, Jafar); DOB 01 Jan 1977 to 31 Dec 1985; nationality Uzbekistan (individual) [SDGT].

7. HEMMATI, Alireza; DOB Dec 1955 (individual) [SDGT] [IFSR].

8. SEYED ALHOSSEINI, Akbar (a.k.a. SAEED HUSAINI, Akbar; a.k.a. SAYED ALHOSSEINI, Akbar; a.k.a. SAYEDOLHUSSEINI, Akbar; a.k.a. SAYYED AL-HOSEINI, Akbar; a.k.a. SEYEDOLHOSEINI, Akbar); DOB 22 Nov 1961; POB Taybad, Iran; Passport D9004309 issued 12 Nov 2008 expires 13 Nov 2013 (individual) [SDGT] [IFSR].

Entities

1. AVIA TRUST FZE, P.O. Box 54541, Dubai, United Arab Emirates [SDGT].

2. BLUE SKY AVIATION CO FZE, Al Maktoum Street, al Dana Centre, 3rd Floor, Office No. 306, Dubai, United Arab Emirates [SDGT].

Dated: February 6, 2014.
Adam J. Szubin,
Director, Office of Foreign Assets Control.

[FR Doc. 2014-03031 Filed 2-11-14; 8:45 am]

BILLING CODE 4810-AL-P